DEPARTMENT OF TRANSPORTATION

Federal Aviation Administration

14 CFR Part 39

[Docket No. FAA-2014-0192; Directorate Identifier 2013-NM-221-AD; Amendment 39-17992; AD 2014-20-19]

RIN 2120-AA64

Airworthiness Directives; Airbus Airplanes

AGENCY: Federal Aviation Administration (FAA), Department of Transportation (DOT).

ACTION: Final rule.

SUMMARY: We are superseding Airworthiness Directive (AD) 2013-10-06, for all Airbus Model A330-200 Freighter, A330-200, A330-300, A340-200, A340-300, A340-500, and A340-600 series airplanes. AD 2013-10-06 required an inspection to identify the installed windshields, and replacement of any affected windshield. This new AD requires expanding the inspection area to 15 additional windshields' serial numbers. This AD was prompted by several reports of a burning smell and/or smoke in the cockpit during cruise phase, leading in some cases, to diversion to alternate airports. We are issuing this AD to prevent significantly increased workload for the flightcrew, which could, under some flight phases and/or circumstances, constitute an unsafe condition.

DATES: This AD becomes effective December 11, 2014.

The Director of the Federal Register approved the incorporation by reference of certain publications listed in this AD as of December 11, 2014.

ADDRESSES: You may examine the AD docket on the Internet at http://www.regulations.gov/#!docketDetail;D=FAA-2014-0192; or in person at the Docket Management Facility, U.S. Department of Transportation, Docket Operations, M-30, West Building Ground Floor, Room W12-140, 1200 New Jersey Avenue SE., Washington, DC.

For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

FOR FURTHER INFORMATION CONTACT: Vladimir Ulyanov, Aerospace Engineer, International Branch, ANM 116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to supersede AD 2013-10-06, Amendment 39-17459 (78 FR 32347, May 30, 2013). AD 2013-10-06 applied to all Airbus Model A330-200 Freighter, A330-200, A330-300, A340-200, A340-300, A340-500, and A340-600 series airplanes. The NPRM published in the Federal Register on April 9, 2014 (79 FR 19548).

The European Aviation Safety Agency (EASA), which is the Technical Agent for the Member States of the European Community, has issued EASA Airworthiness Directive 2013-0256, dated October 21, 2013 (referred to after this as the Mandatory Continuing Airworthiness Information, or “the MCAI”), to correct an unsafe condition for all Airbus Model A330-201, -202, -203, -223, -223F, -243, -243F, -301, -302, -303, -321, -322, -323, -341, -342, and -343 airplanes; and Model A340-211, -212, -213, -311, -312, -313, -541, and -642 airplanes. The MCAI states:

Several operators reported cases of burning smell and/or smoke in the cockpit during cruise phase leading in some cases to diversion. Findings showed that the cause of these events is the burning of the Saint-Gobain Sully (SGS) windshield connector terminal block.

This condition, if not corrected, could significantly increase the flight crew workload which would, under some flight phases and/or circumstances constitute an unsafe condition.

To address this unsafe condition, Airbus published 3 different Service Bulletins (SB) and EASA issued AD 2011-0242 [http://ad.easa.europa.eu/blob/easa_ad_2011_0242_Correction_superseded.pdf/AD_2011-0242_1] (later corrected) which required the identification of the installed windshields and replacement of the affected part.

Since issuance of that [EASA] AD, a new occurrence in service led Airbus to identify a new batch of affected parts.

For the reasons described above, this [EASA] AD retains the requirements of EASA AD 2011-0242 [http://ad.easa.europa.eu/blob/easa_ad_2011_0242_Correction_superseded.pdf/AD_2011-0242_1], which is superseded, and requires identification and replacement of the additionally identified windshields.

You may examine the MCAI in the AD docket on the Internet at http://www.regulations.gov/#!documentDetail;D=FAA-2014-0192-0002.

Comments

We gave the public the opportunity to participate in developing this AD. We received no comments on the NPRM (79 FR 19548, April 9, 2014) or on the determination of the cost to the public.

“Contacting the Manufacturer” Paragraph in This AD

Since late 2006, we have included a standard paragraph titled “Airworthy Product” in all MCAI ADs in which the FAA develops an AD based on a foreign authority's AD.

We have become aware that some operators have misunderstood or misinterpreted the Airworthy Product paragraph to allow the owner/operator to use messages provided by the manufacturer as approval of deviations during the accomplishment of an AD-mandated action. The Airworthy Product paragraph does not approve messages or other information provided by the manufacturer for deviations to the requirements of the AD-mandated actions. The Airworthy Product paragraph only addresses the requirement to contact the manufacturer for corrective actions for the identified unsafe condition and does not cover deviations from other AD requirements. However, deviations to AD-required actions are addressed in 14 CFR 39.17, and anyone may request the approval for an alternative method of compliance to the AD-required actions using the procedures found in 14 CFR 39.19.

To address this misunderstanding and misinterpretation of the Airworthy Product paragraph, we have changed the paragraph and retitled it “Contacting the Manufacturer.” This paragraph now clarifies that for any requirement in this AD to obtain corrective actions from a manufacturer, the actions must be accomplished using a method approved by the FAA, the EASA, or Airbus's EASA Design Organization Approval (DOA).

The Contacting the Manufacturer paragraph also clarifies that, if approved by the DOA, the approval must include the DOA-authorized signature. The DOA signature indicates that the data and information contained in the document are EASA-approved, which is also FAA-approved. Messages and other information provided by the manufacturer that do not contain the DOA-authorized signature approval are not EASA-approved, unless EASA directly approves the manufacturer's message or other information.

This clarification does not remove flexibility previously afforded by the Airworthy Product paragraph. Consistent with long-standing FAA policy, such flexibility was never intended for required actions. This is also consistent with the recommendation of the Airworthiness Directive Implementation Aviation Rulemaking Committee to increase flexibility in complying with ADs by identifying those actions in manufacturers' service instructions that are “Required for Compliance” with ADs. We continue to work with manufacturers to implement this recommendation. But once we determine that an action is required, any deviation from the requirement must be approved as an alternative method of compliance.

We also have decided not to include a generic reference to either the “delegated agent” or “design approval holder (DAH) with State of Design Authority design organization approval,” but instead we have provided the specific delegation approval granted by the State of Design Authority for the DAH throughout this AD.

Conclusion

We reviewed the relevant data and determined that air safety and the public interest require adopting this AD with the changes described previously and minor editorial changes. We have determined that these minor changes:

• Are consistent with the intent that was proposed in the NPRM (79 FR 19548, April 9, 2014) for correcting the unsafe condition; and

• Do not add any additional burden upon the public than was already proposed in the NPRM (79 FR 19548, April 9, 2014).

We also determined that these changes will not increase the economic burden on any operator or increase the scope of this AD.

Costs of Compliance

We estimate that this AD affects 60 airplanes of U.S. registry.

The actions required by AD 2013-10-06, Amendment 39-17459 (78 FR 32347, May 30, 2013), and retained in this AD take about 2 work-hours per product, at an average labor rate of $85 per work-hour. Required parts cost about $0 per product. Based on these figures, the estimated cost of the actions that were required by AD 2013-10-06 is $170 per product.

We also estimate that it would take about 2 work-hours per product to comply with the basic requirements of this AD. The average labor rate is $85 per work-hour. Required parts would cost about $0 per product. Based on these figures, we estimate the cost of this AD on U.S. operators to be $10,200, or $170 per product.

In addition, we estimate that any necessary follow-on actions would take about 10 work-hours and require parts costing $0, for a cost of $850 per product. We have no way of determining the number of aircraft that might need this action.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0192; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-10-06, Amendment 39-17459 (78 FR 32347, May 30, 2013), and adding the following new AD:

2014-20-19 Airbus: Amendment 39-17992. Docket No. FAA-2014-0192; Directorate Identifier 2013-NM-221-AD.

(a) Effective Date

This AD becomes effective December 11, 2014.

(b) Affected ADs

This AD supersedes AD 2013-10-06, Amendment 39-17459 (78 FR 32347, May 30, 2013).

(c) Applicability

This AD applies to all airplanes identified in paragraphs (c)(1) and (c)(2) of this AD, certificated in any category, all manufacturer serial numbers.

(1) Airbus Model A330-201, -202, -203, -223, -223F, -243, -243F, -301, -302, -303, -321, -322, -323, -341, -342, and -343 airplanes.

(2) Airbus Model A340-211, -212, -213, -311, -312, -313, -541, and -642 airplanes.

(d) Subject

Air Transport Association (ATA) of America Code 56, Windows.

(e) Reason

This AD was prompted by several reports of a burning smell and/or smoke in the cockpit during cruise phase, leading in some cases, to diversion to alternate airports. We are issuing this AD to prevent significantly increased workload for the flightcrew, which could, under some flight phases and/or circumstances, constitute an unsafe condition.

(f) Compliance

Comply with this AD within the compliance times specified, unless already done.

(g) Retained Inspection With Revised Service Information

This paragraph restates the requirements of paragraph (g) of AD 2013-10-06, Amendment 39-17459 (78 FR 32347, May 30, 2013), with revised service information. Within 1,200 flight hours after July 5, 2013 (the effective date of AD 2013-10-06), inspect to identify the manufacturer, the part number, and the serial number of the left-hand (LH) and right-hand (RH) windshields installed on the airplane, in accordance with the Accomplishment Instructions of the applicable Airbus service information specified in paragraph (g)(1), (g)(2), or (g)(3) of this AD. A review of airplane delivery or maintenance records is acceptable in lieu of this inspection if the manufacturer, part number, and serial number of the installed windshields can be conclusively determined from that review.

(1) For Model A330-201, -202, -203, -223, -223F, -243, -243F, -301, -302, -303, -321, -322, -323, -341, -342, and -343 airplanes: Airbus Service Bulletin A330-56-3009, Revision 02, including Appendix 01, dated February 8, 2012; or Airbus Service Bulletin A330-56-3009, Revision 03, including Appendixes 01 and 02, dated August 1, 2013. As of the effective date of this AD, use only Airbus Service Bulletin A330-56-3009, Revision 03, including Appendixes 01 and 02, dated August 1, 2013, to do the actions required by paragraph (g) of this AD.

(2) For Model A340-211, -212, -213, -311, -312, and -313 airplanes: Airbus Service Bulletin A340-56-4008, Revision 01, including Appendix 01, dated February 8, 2012; or Airbus Service Bulletin A340-56-4008, Revision 02, including Appendixes 01 and 02, dated August 1, 2013. As of the effective date of this AD, use only Airbus Service Bulletin A340-56-4008, Revision 02, including Appendixes 01 and 02, dated August 1, 2013, to do the actions required by paragraph (g) of this AD.

(3) For Model A340-541 and -642 airplanes: Airbus Service Bulletin A340-56-5002, Revision 01, including Appendix 01, dated February 8, 2012; or Airbus Service Bulletin A340-56-5002, Revision 02, including Appendixes 01 and 02, dated August 1, 2013. As of the effective date of this AD, use only Airbus Service Bulletin A340-56-5002, Revision 02, including Appendixes 01 and 02, dated August 1, 2013, to do the actions required by paragraph (g) of this AD.

(h) Retained Replacement With Revised Service Information

This paragraph restates the requirements of paragraph (h) of AD 2013-10-06, Amendment 39-17459 (78 FR 32347, May 30, 2013), with revised service information. If it is found, during the inspection required by paragraph (g) of this AD, that any installed LH or RH windshield was manufactured by Saint-Gobain Sully (SGS) and the part number and serial number are specified in the applicable Airbus service information specified in paragraph (g)(1), (g)(2), or (g)(3) of this AD: Within 9 months or 1,200 flight hours after July 5, 2013 (the effective date of AD 2013-10-06), whichever occurs first, replace all affected LH and RH windshields, in accordance with the Accomplishment Instructions of the applicable Airbus service information specified in paragraph (h)(1), (h)(2), or (h)(3) of this AD.

(1) For Model A330-201, -202, -203, -223, -223F, -243, -243F, -301, -302, -303, -321, -322, -323, -341, -342, and -343 airplanes: Airbus Service Bulletin A330-56-3009, Revision 02, including Appendix 01, dated February 8, 2012; or Airbus Service Bulletin A330-56-3009, Revision 03, including Appendixes 01 and 02, dated August 1, 2013. As of the effective date of this AD, use only Airbus Service Bulletin A330-56-3009, Revision 03, including Appendixes 01 and 02, dated August 1, 2013, to do the actions required by paragraph (h) of this AD.

(2) For Model A340-211, -212, -213, -311, -312, and -313 airplanes: Airbus Service Bulletin A340-56-4008, Revision 01, including Appendix 01, dated February 8, 2012; or Airbus Service Bulletin A340-56-4008, Revision 02, including Appendixes 01 and 02, dated August 1, 2013. As of the effective date of this AD, use only Airbus Service Bulletin A340-56-4008, Revision 02, including Appendixes 01 and 02, dated August 1, 2013, to do the actions required by paragraph (h) of this AD.

(3) For Model A340-541 and -642 airplanes: Airbus Service Bulletin A340-56-5002, Revision 01, including Appendix 01, dated February 8, 2012; or Airbus Service Bulletin A340-56-5002, Revision 02, including Appendixes 01 and 02, dated August 1, 2013. As of the effective date of this AD, use only Airbus Service Bulletin A340-56-5002, Revision 02, including Appendixes 01 and 02, dated August 1, 2013, to do the actions required by paragraph (h) of this AD.

(i) New Requirement of This AD: Inspection

Within 6 months after the effective date of this AD, inspect to identify the manufacturer, the part number, and the serial number of the LH and RH windshields installed on the airplane, in accordance with the Accomplishment Instructions of the applicable Airbus service information specified in paragraph (i)(1), (i)(2), or (i)(3) of this AD. A review of airplane delivery or maintenance records is acceptable in lieu of this inspection if the manufacturer, part number, and serial number of the installed windshields can be conclusively determined from that review.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendixes 01 and 02, dated August 1, 2013.

(3) For Model A340-541 and -642 airplanes: Airbus Service Bulletin A340-56-5002, Revision 02, including Appendixes 01 and 02, dated August 1, 2013.

(j) New Requirement of This AD: Replacement

If it is found, during the inspection required by paragraph (i) of this AD, that any installed LH or RH windshield was manufactured by Saint-Gobain Sully (SGS) and the part number and serial number are specified in Appendix 02 of the applicable Airbus service information specified in paragraph (j)(1), (j)(2), or (j)(3) of this AD, or if the manufacturer or part number or serial number is not identifiable: Within 6 months after the effective date of this AD, replace the affected LH and/or RH windshield with a serviceable part, in accordance with the Accomplishment Instructions of the applicable Airbus service information specified in paragraph (j)(1), (j)(2), or (j)(3) of this AD.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendixes 01 and 02, dated August 1, 2013.

(3) For Model A340-541 and -642 airplanes: Airbus Service Bulletin A340-56-5002, Revision 02, including Appendixes 01 and 02, dated August 1, 2013.

(k) Definition of Serviceable Windshield

For the purposes of this AD, a serviceable windshield is a windshield not identified in Appendix 01 of the applicable Airbus service information as specified in paragraphs (j)(1), (j)(2), or (j)(3) of this AD; or it is specified in Appendix 01 but has a suffix “U” added to the serial number on the identification plate.

(l) Parts Installation Limitations

As of the effective date of this AD, no person may install, on any airplane, an affected windshield from SGS having a part number and serial number identified in Appendix 01 of the applicable Airbus service information as specified in paragraph (l)(1), (l)(2), or (l)(3) of this AD, unless a suffix “U” has been added on the serial number identification plate.

(1) For Model A330-201, -202, -203, -223, -223F, -243, -243F, -301, -302, -303, -321, -322, -323, -341, -342, and -343 airplanes: Airbus Service Bulletin A330-56-3009, Revision 03, including Appendixes 01 and 02, dated August 1, 2013.

(2) For Model A340-211, -212, -213, -311, -312, and -313 airplanes: Airbus Service Bulletin A340-56-4008, Revision 02, including Appendix 01 and 02, dated August 1, 2013.

(3) For Model A340-541 and -642 airplanes: Airbus Service Bulletin A340-56-5002, Revision 02, including Appendixes 01 and 02, dated August 1, 2013.

(m) Credit for Previous Actions

This paragraph provides credit for actions required by paragraphs (g) and (h) of this AD, if those actions were performed before the effective date of this AD using the applicable Airbus service information specified in paragraphs (m)(1) through (m)(4) of this AD, provided that the actions were accomplished on the airplane, and no replacement windshield has been installed with a part number and serial number identified in Appendix 02 of the applicable Airbus service information as specified in paragraphs (j)(1) through (j)(3) of this AD.

(1) Airbus Service Bulletin A330-56-3009, dated May 4, 2010 (for Model A330-201, -202, -203, -223, -223F, -243, -243F, -301, -302, -303, -321, -322, -323, -341, -342, and -343 airplanes), which is not incorporated by reference in this AD.

(2) Airbus Service Bulletin A330-56-3009, Revision 01, dated January 27, 2011 (for Model A330-201, -202, -203, -223, -223F, -243, -243F, -301, -302, -303, -321, -322, -323, -341, -342, and -343 airplanes), which is not incorporated by reference in this AD.

(3) Airbus Service Bulletin A340-56-4008, dated May 4, 2010 (for Model A340-211, -212, -213, -311, -312, and -313 airplanes), which is not incorporated by reference in this AD.

(4) Airbus Service Bulletin A340-56-5002, dated May 4, 2010 (for Model A340-541 and -642 airplanes), which is not incorporated by reference in this AD.

(n) Other FAA AD Provisions

The following provisions also apply to this AD:

(1) Alternative Methods of Compliance (AMOCs): The Manager, International Branch, ANM-116, FAA, Transport Airplane Directorate, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM 116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(o) Related Information

(1) Refer to Mandatory Continuing Airworthiness Information (MCAI) EASA Airworthiness Directive 2013-0256, dated October 21, 2013, for related information. You may examine the MCAI in the AD docket on the Internet at http://www.regulations.gov/#!documentDetail;D=FAA-2014-0192-0002.

(2) Service information identified in this AD that is not incorporated by reference is available at the addresses specified in paragraphs (p)(3) and (p)(4) of this AD.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A330-56-3009, Revision 03, including Appendixes 01 and 02, dated August 1, 2013.

(ii) Airbus Service Bulletin A340-56-4008, Revision 02, including Appendix 01 and 02, dated August 1, 2013.

(iii) Airbus Service Bulletin A340-56-5002, Revision 02, including Appendixes 01 and 02, dated August 1, 2013.

(3) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 24, 2014.
Michael Kaszycki,
Acting Manager, Transport Airplane Directorate, Aircraft Certification Service.

[FR Doc. 2014-24964 Filed 11-5-14; 8:45 am]

BILLING CODE 4910-13-P